DEPARTMENT OF COMMERCE

National Oceanic and Atmospheric Administration

[I.D. 092500C]

New England Fishery Management Council; Public Meetings

AGENCY: National Marine Fisheries Service (NMFS), National Oceanic and Atmospheric Administration (NOAA), Commerce.

ACTION: Notice of public meetings.

SUMMARY: The New England Fishery Management Council (Council) is scheduling public meetings of its Groundfish Advisory Panel and Social Science Advisory Committee (SSAC) in October, 2000 to consider actions affecting New England fisheries in the exclusive economic zone (EEZ). Recommendations from these groups will be brought to the full Council for formal consideration and action, if appropriate.

DATES: The meetings will held between Monday, October 16, 2000 and Tuesday, October 17, 2000. See SUPPLEMENTARY INFORMATION for specific dates and times.

ADDRESSES: The meetings will be held in Danvers, MA and Peabody, MA. See SUPPLEMENTARY INFORMATION for specific locations.

FURTHER INFORMATION CONTACT: Paul J. Howard, Executive Director, New England Fishery Management Council; (978)465-0492.

SUPPLEMENTARY INFORMATION:

Meeting Dates and Agendas

Monday, October 16, 2000, 10:00 a.m.—Social Sciences Advisory Committee Meeting

Location: Holiday Inn, One Newbury Street, Route 1, Peabody, MA 01960; telephone: (978) 535-4600.

The SSAC will provide guidance to the Council on proposed public meetings to gather information about the social impacts of Council management actions for the Northeast multispecies fishery since 1994.

Tuesday, October 17, 2000, 9:30 a.m.—Groundfish Advisory Panel Meeting.

Location: Sheraton Ferncroft, 50 Ferncroft Road, Danvers, MA 01923; telephone: (781) 245-9300

The Groundfish Advisory Panel will review management measures being developed for Amendment 13 to the Northeast Multispecies Plan and will develop advice on these measures for the Groundfish Oversight Committee. This will include a review of the area management and sector allocation approaches. In addition, they will develop suggestions for the exempted fisheries program, including details for observer coverage of exempted fisheries. If time permits, the Advisory Panel may also develop recommendations on the rebuilding programs for overfished stocks, advice on changes to closed areas and other refinements to the current management measures.

Although non-emergency issues not contained in this agenda may come before this Council (or committee) for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: September 25, 2000.
Richard W. Surdi,
Acting Director, Office of Sustainable Fisheries, National Marine Fisheries Service.

[FR Doc. 00-25037 Filed 9-28-00; 8:45 am]

BILLING CODE 3510-22-S